FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Reporting and Disclosure Requirements of Community Reinvestment Act (CRA)-Related Agreements (Regulation G) (FR G; OMB No. 7100-0299).

FOR FURTHER INFORMATION CONTACT:

Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements, and approved collection of information instrument(s) are available at https://www.reginfo.gov/public/do/PRAMain. These documents are also available on the Federal Reserve Board's public website at https://www.federalreserve.gov/apps/reportforms/review.aspx or may be requested from the agency clearance officer, whose name appears above.

Final Approval Under OMB Delegated Authority of the Extension for Three Years, Without Revision, of the Following Information Collection

Collection title: Reporting and Disclosure Requirements of Community Reinvestment Act (CRA)-Related Agreements.

Collection identifier: FR G.

OMB control number: 7100-0299.

Frequency: Annually and quarterly.

Respondents: State member banks and their subsidiaries; bank holding companies; savings and loan holding companies; affiliates of bank holding companies and savings and loan holding companies, other than banks, savings associations, and subsidiaries of banks and savings associations; and nongovernmental entities or persons (NGEPs) that enter into covered agreements with any of the aforementioned entities.

Estimated number of respondents: Reporting: insured depository institutions (IDIs) and affiliates—Copy of agreements to agency, 1; List of agreements to agency, 1; Annual report, 1; Filing NGEP annual report, 1; Reporting: NGEP—Copy of agreements to agency, 2, Annual report, 2; Disclosure: IDI and affiliates—Covered agreements to public, 1, Agreements relating to activities of CRA affiliates, 1; and Disclosure: NGEP Covered agreements to public, 2.

Estimated average hours per response: Reporting: IDI and affiliates—Copy of agreements to agency, 1; List of agreements to agency, 1; Annual report, 4; Filing NGEP annual report, 1; Reporting: NGEP—Copy of agreements to agency, 1, Annual report, 4; Disclosure: IDI and affiliates—Covered agreements to public, 1, Agreements relating to activities of CRA affiliates, 1; and Disclosure: NGEP Covered agreements to public, 1.

Estimated annual burden hours: Reporting: IDI and affiliates—Copy of agreements to agency, 2; List of agreements to agency, 2; Annual report, 4; Filing NGEP annual report, 1; Reporting: NGEP—Copy of agreements to agency, 2, Annual report, 8; Disclosure: IDI and affiliates—Covered agreements to public, 2, Agreements relating to activities of CRA affiliates, 2; and Disclosure: NGEP Covered agreements to public, 2.

General description of collection: Regulation G—Disclosure and Reporting of CRA-Related Agreements ¹ implements section 711 of the Gramm-Leach-Bliley Act (GLBA),² which requires IDIs, affiliates of IDIs, and NGEPs to disclose written agreements entered into in connection with fulfillment of the CRA.³

¹ 12 CFR part 207.

² Codified at 12 U.S.C. 1831y.

³ 12 U.S.C. 2901 et seq.

Legal authorization and confidentiality: The disclosure and reporting requirements of Regulation G are authorized pursuant to the Board's authority to prescribe regulations to carry out the purposes of section 711 of GLBA.⁴ The FR G disclosure and reporting requirements are mandatory.

⁴ 12 U.S.C. 1831y(h)(1).

The disclosure and reporting requirements of section 711 and Regulation G require relevant parties to disclose covered agreements to the public.⁵ However, as explained in the preamble to Regulation G, an entity subject to Regulation G may submit separate public and complete versions of its covered agreements to the Board with a request for confidential treatment for the complete version.⁶ As stated in the preamble, the Board would release only the public version unless it received a request under the Freedom of Information Act (FOIA) for the entirety of the CRA-related agreement.⁷

⁵ The Board noted in the preamble to Regulation G that section 711 would require disclosure of some types of information that an agency might normally withhold from disclosure under the FOIA and that the Board would not keep information confidential under the FOIA that a party would be required to disclose under section 711. Disclosure and Reporting of CRA-Related Agreements, 66 FR 2052, 2066-2067 (Jan. 10, 2001).

⁶ Id.

⁷ Id.

Regulation G states that in responding to a request for a covered agreement from an individual or entity under the public disclosure provisions of section 711, an NGEP, insured depository institution, or affiliate may withhold from the public information that the party believes the relevant supervisory agency could withhold from disclosure under the FOIA.⁸ Information contained in covered agreements may be exempt from disclosure under exemption 4 of the FOIA, which protects nonpublic commercial or financial information, which is both customarily and actually treated as private by the respondent.⁹ Information contained in covered agreements may also be exempt from disclosure under exemption 6 of the FOIA, which protects information about individuals in personnel and medical files the disclosure of which “would constitute a clearly unwarranted invasion of personal privacy,” ¹⁰ and under exemption 8 of the FOIA, which protects information contained in “examination, operating, or condition reports” obtained in the bank supervisory process.¹¹

⁸ 12 CFR 207.6(b)(2).

⁹ 5 U.S.C. 552(b)(4).

¹⁰ 5 U.S.C. 552(b)(6).

¹¹ 5 U.S.C. 552(b)(8).

Current actions: On July 26, 2022, the Board published an initial notice in the Federal Register (87 FR 44392) requesting public comment for 60 days on the extension, without revision, of the FR G. The comment period for this notice expired on September 26, 2022. The Board did not receive any comments.

Board of Governors of the Federal Reserve System, November 22, 2022.
Michele Taylor Fennell,
Deputy Associate Secretary of the Board.

[FR Doc. 2022-25969 Filed 11-28-22; 8:45 am]

BILLING CODE 6210-01-P